DEPARTMENT OF TRANSPORTATION

National Highway Traffic Safety Administration

Discretionary Cooperative Agreements To Assist in the Development of Crash Outcome Data Evaluation System

AGENCY: National Highway Traffic Safety Administration, DOT.

ACTION: Notice of availability—discretionary cooperative agreements to assist in the development and use of Crash Outcome Data Evaluation System.

SUMMARY: The National Highway Traffic Safety Administration (NHTSA) announces a discretionary cooperative agreement program to assist states in the development and use of Crash Outcome Data Evaluation System (CODES) and solicits applications for projects under this program from states that have not previously been funded to develop CODES. Under this program, states will link their existing statewide traffic records with injury outcome and charge data. The linked data will be used to support highway safety decision-making at the local, regional, and State levels to reduce deaths, non-fatal injuries, and health care costs resulting from motor vehicle crashes.

DATES: Applications must be received at the office designated below on or before April 26, 2004, at 2 p.m.

ADDRESSES: Applications must be submitted to DOT/National Highway Traffic Safety Administration, Office of Contracts and Procurement (NPO-220), ATTN: Maxine D. Edwards, 400 7th Street, SW., Room 5301, Washington, DC 20590. All applications submitted must include a reference to NHTSA Cooperative Agreement Program No. DTNH22-04-H-07020.

Applicants shall provide a complete mailing address where Federal Express mail can be delivered.

FOR FURTHER INFORMATION CONTACT: General administrative questions may be directed to Maxine D. Edwards, Contract Specialist, at the Office of Contracts and Procurement.

All questions and requests for copies may be directed by e-mail at Maxine.Edwards@nhtsa.dot.gov or by telephone at (202) 366-4843.

Programmatic questions relating to this cooperative agreement program should be directed to Barbara Rhea CODES Contracting Officer's Technical Representative (COTR), at NHTSA, Room 6125, (NPO-123) 400 7th Street, SW., Washington, DC 20590, or by e-mail at Barbara.Rhea@nhtsa.dot.gov or by telephone at (202) 366-2714.

SUPPLEMENTARY INFORMATION:

Statement of Work

Background

Crash data alone are unable to convey the magnitude of the injury and financial consequences of the injuries resulting from motor vehicle crashes or the success of highway safety decision-making to prevent them. Outcome information describing what happens to all persons involved in motor vehicle crashes, regardless of injury, are needed.

Person-specific outcome information is collected at the crash scene and en route by EMS personnel, at the emergency department, in the hospital, and after discharge. When these data are computerized and merged statewide, they generate a source of population-based data that is available for use by state and local traffic safety and public health professionals. Linking these records to statewide crash data collected by police at the scene is the key to identifying the relationships among specific vehicle, crash, or occupant behavior characteristics and their injury and financial outcomes.

The feasibility of linking crash and injury outcome (EMS, emergency department, hospital discharge, death certificate, claims, etc.) data was demonstrated by the CODES project. This project evolved from the Intermodal Surface Transportation Efficiency Act of 1991, which mandated that NHTSA prepare a Report to Congress about the benefits of safety belt and motorcycle helmet use in terms of mortality, morbidity, injury severity and costs. NHTSA provided funding to the States of Hawaii, Maine, Missouri, New York, Pennsylvania, Utah, and Wisconsin to link their state data and use the linked data to analyze the effectiveness of safety belts and motorcycle helmets. The safety belt/helmet Report was delivered to Congress in February 1996. The success of the Report led NHTSA to award research funds in 1996 to three CODES states (New York, Pennsylvania, and Wisconsin) and three non-CODES states with linked crash and injury data (Alaska, Connecticut, and New Mexico) to develop state-specific applications. Additional funds became available to expand the number of CODES states. NHTSA awarded CODES linkage grants in 1997 to Connecticut, New Hampshire, Maryland, North Dakota, South Dakota, Oklahoma, and Nevada and, in 1998, to Iowa, Kentucky, Massachusetts, Nebraska, and South Carolina. Arizona, Delaware, Minnesota and Tennessee were funded in 1999. Georgia and Rhode Island were funded in 2000, and Indiana and Texas in 2002. Currently, 27 states have successfully implemented the data linkage techniques.

The CODES project also demonstrated that linked data have many uses for decision-making related to highway safety and injury control. In addition to demonstrating the effectiveness of safety belts and motorcycle helmets in preventing death, injury, and costs, the linked data were used to identify populations at risk for increased injury severity or high health care costs, the impact of different occupant behaviors on outcome, the safety needs at the community level, the allocation of resources for emergency medical services, the injury patterns by type of roadway and geographic location, and the benefits of collaboration on data quality. Crash outcome information enables decision-makers to target those prevention programs that have the most impact on preventing or reducing the injury and financial costs associated with motor vehicle crashes.

Data linkage fulfills expanded data needs without the additional expense and delay of new data collection. The linkage process itself provides feedback about data quality which, when improved, enhances the state data for their original purposes. Thus, it is in NHTSA's interest to encourage states to qualify for CODES funding. NHTSA benefits from the improved quality of the state data, while the states benefit from state-specific injury and financial outcome information about motor vehicle crashes.

Objective

The objective of this Cooperative Agreement program is to provide resources to the applicant to:

1. Coordinate the development and institutionalization of the capability to link state crash and injury outcome data to identify the injury and financial consequences of motor vehicle crashes.

2. Utilize this information in crash analysis, problem identification, and program evaluation to improve decision-making at the local, state, and national levels related to preventing or reducing deaths, injuries, and direct medical costs associated with motor vehicle crashes.

3. Provide NHTSA with population-based linked crash and injury data to analyze specific highway safety issues in collaboration with the CODES states.

4. Develop data linkage capabilities as a means of improving the quality of state data that support NHTSA's national data.

State data systems are stronger and more likely to survive when developed and supported by state funds. So, this cooperative agreement is not intended to fund basic development of state data systems, but rather to enhance their value via linkage. States with insufficient state data to perform the CODES linkages are encouraged to use state resources to improve their state data and qualify for CODES funding.

General Project Requirements

The grantees of this cooperative agreement will be required to:

1. Link statewide population-based crash to injury data for any two calendar years available since 2000 to produce a linked data file that, if not statewide, reflects a contiguous geographical area that contains at least three (3) million residents and all levels of emergency medical care so that persons involved in crashes do not need to be transferred elsewhere except in rare occurrences. The linked data must be representative and generalizable for highway traffic safety purposes in the state or within an area in the state. All applicants must be able to clearly document what data are available and what data are missing and the significance of the missing data for highway traffic safety planning efforts.

a. Develop a state/area-wide CODES that includes outcome information for all persons, injured and uninjured, involved in police reported motor vehicle crashes.

(1) The CODES should consist of person-specific crash data linked to hospital, death certificate, and either EMS or emergency department data, preferably both. States without EMS or emergency department data are eligible if this type of outpatient information can be obtained from insurance claims data.

(2) Additional state/area-wide data (driver licensing, vehicle registration, citation/conviction records, insurance claims, HMO/managed care, outpatient records, etc.) should be linked as necessary to meet state/area-wide objectives.

b. Set up processes for collaboration among the technical experts who manage the data files being linked.

c. Assign an agency to be responsible for:

(1) Obtaining a computer to be dedicated to CODES activities (the computer and linkage software resources may not be permanently tied to an existing computer network in such a way as to preclude their movement in the future, as directed by the CODES Board of Directors, to another organization interested in continuing the linkage and developing applications for the linked data that improve highway safety;

(2) Implementing CODES 2000 probabilistic linkage software and specified statistical techniques to perform the linkage of the crash and injury state data;

(3) Validating the linkage results via the use of imputation techniques;

(4) Analyzing the linked data; and,

(5) Cross-training sufficient staff to ensure continuation of the linkage capability when unexpected changes occur in organizational priorities or personnel during or after the project period.

d. Document the file preparation, linkage and validation processes so that the linkage can be repeated efficiently during subsequent years after Federal funding ends and provide evidence of this documentation.

e. Provide NHTSA a version of the linked data file, per NHTSA's guidelines, including documentation of the file structure and its conformance with State laws and regulations governing patient/provider confidentiality.

2. Use the linked data to influence highway traffic safety and injury control decision-making by implementing at least one application of linked data that is expected to have a significant impact on highway safety planning or a positive impact on reducing death, injury, and direct medical costs.

3. Use the linked data to prepare management reports using a format standardized by NHTSA for a national CODES report.

4. Develop the computer programs needed to translate the linked data into information useful for highway traffic safety and injury control at the local, regional, or state/area-wide level.

a. Develop, for access within the State, a public-use version of the linked data, copies of which will be distributed upon request.

b. Develop the resources necessary to produce and distribute fact sheets and routine reports, respond to data requests, and provide access to the linked data for analytical, management, planning, and other purposes after Federal funding ends.

c. Use the Internet and other electronic mechanisms to efficiently distribute and share information generated from the linked data.

5. Promote collaboration between the owners and users of the state/area-wide data to facilitate data linkage and state-specific applications for linked data.

a. Establish a state/area-wide CODES collaborative network.

(1) Convene a Board of Directors consisting of the data owners and major users of the state/area-wide data. The CODES Board of Directors will be responsible for managing and institutionalizing the linked data, establishing the data release policies for the linked data, supporting the activities of the grantee, ensuring that data linkage and application activities are appropriately coordinated within the state/area, and resolving common issues related to data accessibility, availability, completeness, quality, confidentiality, transfer, ownership, fee for service, management, etc. The CODES Board of Directors shall meet at least once a month either in person or via conference call.

(2) Convene a CODES Advisory Group consisting of the CODES Board of Directors and other stakeholders interested in the use of linked data to support highway safety, injury control, EMS, etc. The CODES Advisory Group will be informed of the results of the data linkage, application of the data for decision-making, the quality of the state/area-wide data for linkage and the quality of the linked data for analysis. The CODES Advisory Group shall meet in person twice a year.

b. Promote coordination of the various stakeholders through use of the Internet, teleconferencing, joint meetings, and other mechanisms to ensure frequent communication among all parties to minimize the expense of travel.

6. Work collaboratively with NHTSA to implement the Cooperative Agreement.

a. Attend Initial Briefing Meeting. Each grantee shall attend a briefing meeting (date and time to be scheduled within 30 days after the award) in Washington, DC, with NHTSA staff. The purpose of the meeting will be to review the goals and objectives of the project, discuss implementation of the linkage software, review the tasks to be specified in the action plan for the data linkage and applications of the linked data for highway safety or injury control decision-making and discuss the agendas for the Board of Directors and Advisory Group.

b. Submit Detailed Action Plan and Schedule. Within 30 days after the briefing meeting, the grantee shall deliver a detailed action plan and schedule, covering the remaining funding period, for accomplishing the data linkage and incorporating information generated from linked data into the processes for highway safety or injury control decision-making. The action plan shall be subject to the technical direction and approval of NHTSA.

c. Attend Technical Workshops. All grantees together shall attend two technology assistance workshops during project performance at locations convenient to the majority of CODES grantees. Each workshop will be organized to provide technical assistance, share data linkage experiences, develop standardized formats, review the proposed state-specific highway safety applications of linked data, and resolve common problems.

d. Progress Report. Grantee shall submit quarterly progress reports. During the period of performance, the grantee will provide letter-type reports to the COTR. These reports will compare what was proposed in the Action Plan with actual accomplishments during the past quarter; what commitments have been generated; what follow up and state-level support is expected; what problems have been experienced and what may be needed to overcome the problems; and what is specifically planned to be accomplished during the next quarter. These reports will be submitted seven days after the end of each quarter. Minutes of the meetings of the Board of Directors during the quarter, and any CODES applications such as reports, fact sheets or other publications must be attached to the Progress Report.

e. Develop a plan to institutionalize the data linkage and applications for linked data after Federal funding ends. By the end of the 15th month of funding, each grantee shall submit a long-range plan and schedule to institutionalize data linkage and the use of linked data for highway safety and injury control decision-making within the state.

f. Project Report. The grantee shall deliver to NHTSA, at the end of the project, a final report describing the results of the data linkage process, and the applications of the linked data generated during the project. This report will follow guidelines provided by the COTR.

NHTSA Involvement

NHTSA will be involved in all activities undertaken as part of the Cooperative Agreement program and will:

1. Provide a Contracting Officer's Technical Representative (COTR) to participate in the planning and management of the Cooperative Agreement and coordinate activities between the grantee and NHTSA.

2. Provide, at no cost to the grantee, training and technical assistance by a CODES expert for up to two weeks on-site and off-site during the project to assist the grantee in preparing the files for linkage, implementing probabilistic linkage and other statistical techniques, validating the linkage results, developing applications for the linked data, and organizing the CODES Board of Directors and Advisory Group.

3. Develop a format in which the linked data and supporting documentation will be delivered to NHTSA.

4. Conduct Initial Briefing at NHTSA Headquarters in Washington, D.C. (Date and time to be scheduled within 30 days after the award.) The purpose of the meeting will be to review the goals and objectives of the project, discuss implementation of the linkage software, identify the tasks to be specified in the action plan for the data linkage and applications of the linked data for highway safety or injury control decision-making, and discuss agendas for the Board of Directors and Advisory Group.

5. Conduct two Technical Assistance workshops for the purposes of technical assistance, technology transfer. Each workshop will be organized to share data linkage experiences, develop standardized formats, review the proposed state-specific highway safety applications of linked data, and resolve common problems. Locations for the workshops will be determined based on the location of the Grantees. However, for the purpose of cost estimation, assume the workshops will be held in Washington, DC.

6. Collaboratively work with the state when using the state's linked data to analyze and report on specific highway safety issues.

7. When appropriate, NHTSA will publish state-specific reports on CODES applications.

Number of Cooperative Agreements, Award Amounts, and Period of Support

The project study effort described in this announcement will be supported through the award of up to three (3) Cooperative Agreements, depending upon the merit of the applications received and the availability of funding. A total of $750,000 will be available for this effort. Project efforts involving linkage of the state/area-wide data and applications for the linked data must be completed within twenty-one months after funding.

Eligibility Requirements

The grantee must be a state agency involved with highway traffic safety, such as a State Highway Safety Office, Department of Transportation or other State agency with demonstrated activities in the highway traffic safety areas, to ensure active involvement by highway traffic safety stakeholders. States that have previously been funded to develop CODES are not eligible. Only one application should be submitted for a state. Because this Cooperative Agreement program requires extensive collaboration among the data owners in order to achieve the program objectives, it is envisioned that the grantee agency may need to actively involve the data owners in the development of the formal application and may need to sub-contract activities with at least one of them to implement a successful CODES.

While the general eligibility requirements are broad, applicants are advised that this Cooperative Agreement program is not designed to support basic developmental efforts. Although no single organization within any state or area within the state has all of the required data capabilities, the application should demonstrate strong collaborative agreements with the data owners and access to at least the state/area-wide crash, hospital, death certificate, and either EMS or emergency department data, or both, by the time of the award. States/areas that collect at least the date of birth and ZIP Code of residence on their crash data and have state/area-wide health and/or vehicle insurance claims information may be eligible, in spite of the lack of EMS or emergency department information, if the claims data include everyone involved in motor vehicle crashes. In addition, it is important that the application indicate the level of commitment by the state, in terms of funding and/or shared resources, to meet program objectives, particularly institutionalization of the data linkage and applications for linked data.

Application Procedure

Each applicant must submit one original and four (4) copies of the application package to: DOT/National Highway Traffic Safety Administration, Office of Contracts and Procurement (NPO-220), ATTN: Maxine D. Edwards, 400 7th Street, SW., Room 5301, Washington, DC 20590. Applications must be typed on one side of the page only.

Applications must include a reference to NHTSA Cooperative Agreement Program Number DTNH22-04-H-07020. Only complete application packages received on or before 2 p.m. on April 26, 2004, will be considered.

Application Contents

1. The application package must be submitted with OMB Standard Form 424 (REV. 7-97, including 424A and 424B), Application for Federal Assistance, with the required information filled in and assurances signed (SF 424B). While the Form 424A deals with budget information and Section B identifies Budget Categories, the available space does not permit a level of detail that is sufficient to provide for a meaningful evaluation of the proposed total costs. A supplemental sheet shall be provided which presents a detailed breakdown of the proposed costs (direct labor, including labor category, level of effort, and rate; direct materials including itemized equipment; travel and transportation, including projected trips and number of people traveling; subcontractors/subgrants, with similar detail, if known; and overhead), as well as any costs the applicant proposes to contribute or obtain from other sources in support of the project. Applicants shall assume that awards will be made by July 2, 2004 and should prepare their applications accordingly.

2. The application shall include a program narrative statement of not more than 20 pages, which addresses the following as a minimum:

a. A brief description of the state/area in terms of its highway safety and injury control decision-making processes for planning, performance monitoring and other functions aimed at reducing death, injury, and costs of injuries resulting from motor vehicle crashes. This description should indicate how linked data would make a difference to the decision-making processes.

b. A brief description of the existing crash and injury outcome data files. Applicants will link state/area-wide population-based crash data to EMS (and/or emergency department or insurance claims), hospital discharge and death certificate data to obtain injury and financial outcomes for persons injured in motor vehicle crashes for any two calendar years of data available since 2000. Linkages to census, other traffic records (vehicle registration, driver licensing, roadway, conviction/citation, etc.), insurance claims, etc., are encouraged to meet priorities for highway safety and injury control decision-making. The following information should be reported for each year of the state/area-wide data proposed for linkage:

(1) The total crashes, total persons involved in crashes and the total persons injured by police-reported severity level (killed, incapacitating injury, non-incapacitating injury, possible injury, unknown if injured), state/area-wide.

(2) Information about the current status of the data files to be linked, recorded using the format below:

Data files | Reporting threshold (A) | Rate of compliance with (A) | Data years available to be linked (2000-2002) | Month and year most recent data year will be available | Percent of records computerized | Can remaining records be computerized? (Y/N)
Crash |
EMS |
ED |
Hospital |
Death Certificate |
Other |

(3) The data elements available to identify persons and crashes and the missing data rate for each.

c. A brief description of how staff from the various data owners will be cross-trained in the CODES linkage to compensate for potential future changes in organizational priorities and personnel.

d. A brief description of the process to be used to ensure adequate documentation of the data files and linkage process.

e. A brief description of how the linked data will be converted into information useful for the highway safety and injury control decision-making processes for the purpose of reducing death, injury, and costs resulting from motor vehicle crashes.

Describe:

(1) The different types of decision-making processes, currently being utilized in the state/area, that identify highway traffic safety and injury control objectives and prioritize prevention programs that have the most impact on reducing death, injury and direct medical costs associated with motor vehicle crashes; and

(2) Why linked data are needed to make these decision-making processes more effective and how the data will be incorporated.

f. A brief description of each data owner member of the CODES Board of Directors including the process that must be implemented to access the owner's data.

2. The application shall include an appendix. A large appendix is strongly discouraged. Materials not listed below should be included only if it is necessary to support information about data linkage, applications for linked data or institutionalization discussed in the application. Do not send copies of brochures, documents, etc., developed as the result of a collaborative effort in the state/area. The appendix should include the following:

a. Letters of support from each proposed member of the CODES Board of Directors. A letter of support should reflect the signer's level of commitment to the CODES project and thus should not be a form letter. The letter of support should document:

(1) Why linked data are important to the agency.

(2) The priority assigned by the agency to obtain linked data compared to other responsibilities.

(3) The agency's level of commitment in terms of the number of staff and the dollars or shared resources which will be available to support and institutionalize CODES.

(4) The agency's willingness to collaborate with other data owners to support shared ownership of the linked data.

(5) The agency's permission to collaborate with NHTSA during the project and to release the linked data (or description of policies which would restrict transfer) to NHTSA at the end of the project.

b. A brief description or letters of support should be included for the other stakeholders to be represented on the CODES Advisory Group. The letters of support should indicate the stakeholder's need for the linked data, and willingness to facilitate the linkage of state/area-wide data or use of linked data for decision-making.

c. A list of major activities in chronological order and a time line to show the expected schedule of accomplishments and their target dates.

d. Descriptions of the proposed project personnel as follows:

(1) Project Director: Include a resume along with a description of the director's leadership capabilities to make the various stakeholders work together.

(2) Key personnel proposed for the data linkage and applications of linked data, and other personnel considered critical to the successful accomplishment of this project: include a brief description of qualifications, employment status (permanent full-time or part-time, contractor full-time or part-time, other) in the organization, and respective organizational responsibilities. The proposed level of effort in performing the various activities should also be identified.

e. A brief description of the applicant's organizational experience in performing similar or related efforts, and the priority that will be assigned to this project compared to the organization's other responsibilities.

f. A brief description of any potential delays in implementing the project because of requirements for legislative approval before CODES funds can be expended.

g. Data Use Agreement. A description of the existing State laws and Privacy Act regulations governing patient/provider confidentiality in the data files being linked that would restrict use of the data for linkage at the state level and/or for transfer of the CODES linked data to NHTSA for its use.

Application Review Process and Evaluation Factors

Initially, all application packages will be reviewed to confirm that the applicant is an eligible recipient and to ensure that the application contains all of the items specified in the Application Content section of this announcement. Each complete application from an eligible recipient will then be evaluated by an Evaluation committee. The applications will be evaluated using the following criteria:

1. Understanding the intent of the program (20%). The applicant's recognition of the importance of CODES to obtain injury and financial outcome data that are necessary for a comprehensive evaluation of the impact of highway safety and injury control countermeasures. The applicant's understanding of the importance of developing CODES as a meaningful and appropriate strategy for improving traffic records capabilities and ensuring the continuation of CODES after completion of this project.

2. Technical approach for project completion (40%). The reasonableness and feasibility of the applicant's approach for successfully achieving the objectives of the project within the required time frame. The appropriateness and feasibility of the applicant's proposed plans for data linkage and applications for the linked data. Evidence that the applicant has the necessary authorization and support from data owners to access injury and traffic records state/area-wide data, particularly total charges and information about type and severity of injury, which are not routinely available for highway safety analyses, and the authorization to collaborate with NHTSA.

3. Project personnel (20%). The adequacy of the proposed personnel to successfully perform the project study, including qualifications and experience (both general and project related), the various disciplines represented, and the relative level of effort proposed for the professional, technical and support staff.

4. Organizational capabilities (20%). The adequacy of organizational resources and experience to successfully manage and perform the project, particularly to support the collaborative network and respond to the increasing demand for access to the linked data. The proposed coordination with and use of other organizational support and resources, including other sources of financial support.

An organizational representative of the Governors Highway Safety Association will be assisting in NHTSA's technical evaluation process.

Special Award Selection Factors

After evaluating all applications received, in the event that insufficient funds are available to award to all meritorious applicants, NHTSA may consider the following special award factors in the award decision:

1. Priority may be given to those applicants that have statewide data available for linkage.

2. Priority may be given to applicants who have the highest probability of maintaining the collaborative network of data owners and users, of institutionalizing the linkage of the crash and injury outcome data on a routine basis, and of continuing to respond to data requests after the project is completed.

3. Priority may be given to an applicant on the basis that the application fits a profile of providing NHTSA with a broad range of population densities (rural through metropolitan) with different highway safety needs.

4. Priority may be given to an applicant who currently provides, or agrees to provide, state crash data annually to NHTSA's State Data System.

Terms and Conditions of the Award

1. Prior to award, each grantee must comply with the certification requirements of 49 CFR part 20, Department of Transportation New Restrictions on Lobbying, and 49 CFR part 29, Department of Transportation Government-wide Debarment and Suspension (Non-procurement) and Government-wide Requirements for Drug Free Workplace (Grants). In addition, grantees must certify that data release agreements have been signed by the owners of the data files being linked to transfer the CODES linked database to NHTSA, according to NHTSA specifications.

2. Reporting Requirements and Deliverables:

a. Detailed Action Plan and Schedule. Within 30 days after the briefing meeting, the grantee shall deliver a detailed action plan and schedule for accomplishing the data linkage and applications of linked data for decision-making, showing any revisions to the approach proposed in the grantee's application. This detailed action plan will be subject to the approval of NHTSA and will describe the following:

(1) The personnel who will perform the tasks.

(2) The time period for obtaining the different files required for linkage.

(3) The milestones for completing the various phases of the probabilistic linkage and validation processes.

(4) The milestones for proposed meeting schedules and actions by the Board of Directors and Advisory Group.

(5) Date(s) for providing the linked data to NHTSA.

(6) The milestones for implementing the applications.

b. Quarterly Progress Report. During the performance, the grantee will provide letter-type reports to the NHTSA COTR. These reports will compare what was proposed in the Action Plan with actual accomplishments during the past quarter; what commitments have been generated; what follow-up and state-level support is expected; what problems have been experienced and what may be needed to overcome the problems; and what is specifically planned to be accomplished during the next quarter. Copies of the fact sheets, management reports and other CODES publications should be included with the Quarterly Progress Report. These reports will be submitted seven days after the end of each quarter. Because the security process for scanning mail at NHTSA causes the pages of published documents to stick together, electronic, rather than printed, versions of the state-specific publications should be sent so they can be distributed via NHTSA's CODES Web site.

c. Board of Directors and Advisory Group Meetings. Copies of the agenda and minutes for each Board of Directors and Advisory Group Meetings held during the quarter shall be attached to the Progress Report submitted to NHTSA.

d. Institutionalization Plan. The grantee shall deliver to NHTSA, by the end of the 15th month of funding, a long-range plan and schedule to institutionalize data linkage and the use of linked data for highway safety and injury control decision-making within the state.

e. Project Report. The grantee shall deliver to NHTSA, at the end of the project, a final report that describes the results of the data linkage process, and the applications of the linked data. The report shall follow the content outline mandated by NHTSA and include the following:

(1) A description of the state/area wide linked crash and injury data;

(2) A description of the file preparation;

(3) A description of the linkage, validation, imputation processes and results;

(4) A description of the extent of the documentation and how the documentation will facilitate linkage in subsequent years;

(5) A discussion of the limitations of the linked data and subsequent applications of these data;

(6) A description of the applications of linked data implemented for decision-making and results of the decision-making;

(7) A description of how the data linkage and use of linked data for decision-making has been institutionalized for decision-making;

(8) A description of the documentation created to facilitate repeating of the linkage process and an estimate of how much time is needed to repeat the linkage in subsequent years;

(9) A copy of the public-use formats that were successful for incorporating linked data into the decision-making processes for highway safety and injury control;

(10) A copy of the management reports prepared using the standardized format for the national CODES report; and,

(11) A copy of a state-specific application using the linked data that had a direct impact on highway safety planning or improved highway safety outcome in terms of reduced deaths, injuries, injury severity and costs.

f. CODES Linked Database. The grantee shall deliver to NHTSA after linkage, at the date specified in the Action Plan, the CODES linked databases. NHTSA will use the data to help facilitate the development of data linkage capabilities at the state/area-wide level and to encourage use of the linked data for decision-making.

The deliverables will include:

(1) The database in an electronic media and format acceptable to NHTSA, including all persons, regardless of injury severity (none, fatal, non-fatal), involved in a reported motor vehicle crash for any two calendar years of available data beginning in 2000, and including injury and financial outcome information for those who are linked.

(2) A copy of the file structure for the linked data file.

(3) Documentation of the definitions and file structure for each of the data elements contained in the linked data files.

(4) An analysis of the quality of the linked data and a description of any data bias that may exist, based on an analysis of the false positive and false negative linked records.

g. One state-specific application of the linked data that has an impact on the state's highway safety planning or program efforts designed to reduce death, injury, injury severity or costs resulting from motor vehicle crashes. Electronic versions of the state-specific publications should be sent so they can be distributed via NHTSA's CODES Web site.

3. During the effective performance period of Cooperative Agreements awarded as a result of this announcement, the agreement shall be subject to the National Highway Traffic Safety Administration's General Provisions for Assistance Agreements.

Joseph S. Carra,
Director for National Center for Statistics and Analysis, National Highway Traffic Safety Administration.

[FR Doc. 04-5440 Filed 3-10-04; 8:45 am]

BILLING CODE 4910-12-P